SUSQUEHANNA RIVER BASIN COMMISSION

Projects Approved for Consumptive Uses of Water

AGENCY: Susquehanna River Basin Commission.

ACTION: Notice.

SUMMARY: This notice lists the projects approved by rule by the Susquehanna River Basin Commission during the period set forth in DATES.

DATES: February 1, 2013, through February 28, 2013.

ADDRESSES: Susquehanna River Basin Commission, 1721 North Front Street, Harrisburg, PA 17102-2391.

FOR FURTHER INFORMATION CONTACT: Richard A. Cairo, General Counsel, telephone: (717) 238-0423, ext. 306; fax: (717) 238-2436; email: rcairo@srbc.net. Regular mail inquiries may be sent to the above address.

SUPPLEMENTARY INFORMATION: This notice lists the projects, described below, receiving approval for the consumptive use of water pursuant to the Commission's approval by rule process set forth in 18 CFR 806.22(f) for the time period specified above:

Approvals by Rule Issued Under 18 CFR 806.22(f)

1. EOG Resources, Inc., Pad ID: KENNEDY A Pad, ABR-201302001, Smithfield Township, Bradford County, Pa.; Consumptive Use of Up to 5.000 mgd; Approval Date: February 7, 2013.

2. EOG Resources, Inc., Pad ID: JENKINS B Pad, ABR-201302002, Springfield Township, Bradford County, Pa.; Consumptive Use of Up to 5.000 mgd; Approval Date: February 8, 2013.

3. Southwestern Energy Production Company, Pad ID: FLICKS RUN EAST PAD, ABR-201302003, Cogan House Township, Lycoming County, Pa.; Consumptive Use of Up to 4.999 mgd; Approval Date: February 14, 2013.

4. Chief Oil & Gas LLC, Pad ID: Lathrop Farm Trust Drilling Pad, ABR-201302004, Auburn Township, Susquehanna County, Pa.; Consumptive Use of Up to 2.000 mgd; Approval Date: February 28, 2013.

Authority: Pub. L. 91-575, 84 Stat. 1509 et seq., 18 CFR Parts 806, 807, and 808.

Dated: March 11, 2013.
Stephanie L. Richardson,
Secretary to the Commission.

[FR Doc. 2013-06300 Filed 3-19-13; 8:45 am]

BILLING CODE 7040-01-P